ENVIRONMENTAL PROTECTION AGENCY

[EPA-HQ-OEJECR-2023-0099; FRL-10939-01-OA]

White House Environmental Justice Advisory Council; Notification of Public Meeting

AGENCY: Environmental Protection Agency (EPA).

ACTION: Notification for a public meeting.

SUMMARY: Pursuant to the Federal Advisory Committee Act (FACA), the U.S. Environmental Protection Agency (EPA) hereby provides notice that the White House Environmental Justice Advisory Council (WHEJAC) will meet on the dates and times described below. The meeting is open to the public. For additional information about registering to attend the meeting or provide public comment, please see “REGISTRATION” under SUPPLEMENTARY INFORMATION. Pre-Registration is required.

DATES: The WHEJAC will convene an in-person public meeting with a virtual option on Tuesday, June 13, 2023, at approximately 6:00 p.m. Mountain Standard Time. The WHEJAC meeting continues Wednesday, June 14, 2023, and Thursday, June 15, 2023, from approximately 9:00 a.m.-5:00 p.m. Mountain Standard Time each day. Meeting discussions will focus on several topics including, but not limited to, workgroup activity, proposed recommendations for the Council on Environmental Quality's (CEQ) consideration, CEQ briefings, new charges, and interaction between the White House Environmental Justice Interagency Council (IAC) and the WHEJAC. A public comment period relevant to current WHEJAC charges will be considered by the WHEJAC at the meeting on Tuesday, June 13, 2023, (see SUPPLEMENTARY INFORMATION). Members of the public who wish to speak during the public comment period must register by 11:59 p.m., Mountain Standard Time, June 6, 2023.

ADDRESSES: The WHEJAC meeting will be held at the Renaissance Phoenix Downtown Hotel, 100 North 1st Street in Phoenix, Arizona 85004.

FOR FURTHER INFORMATION CONTACT: Audrie Washington, WHEJAC Designated Federal Officer, U.S. EPA; email: whejac@epa.gov; telephone (312) 886-0669. Additional information about the WHEJAC is available at: https://www.epa.gov/environmentaljustice/white-house-environmental-justice-advisory-council#meetings.

SUPPLEMENTARY INFORMATION: The Charter of the WHEJAC states that the advisory committee will provide independent advice and recommendations to the Chair of the CEQ and to the White House Interagency Council on how to increase the Federal Government's efforts to address current and historic environmental injustice, including recommendations for updating Executive Order 12898. The WHEJAC will provide advice and recommendations about broad cross-cutting issues related but not limited to issues of environmental justice and pollution reduction, energy, climate change mitigation and resiliency, environmental health, and racial inequity. The WHEJAC's efforts will include a broad range of strategic, scientific, technological, regulatory, community engagement, and economic issues related to environmental justice.

I. Registration

Individual registration is required for the public meeting. No two individuals can share the same registration link. Information on how to register is located at https://www.epa.gov/environmentaljustice/white-house-environmental-justice-advisory-council#meetings. Registration for the public meeting is available throughout the scheduled end time of the meeting. Registration to speak during the public comment period will close at 11:59 p.m. Mountain Standard Time on June 6, 2023. When registering, please provide your name, organization, city and state, and email address for follow up. Please also indicate whether you will provide public comment during the meeting, or if you will submit written comments.

A. Public Comment

The WHEJAC is interested in receiving public comments relevant to the following questions currently under consideration: (1) Please provide any feedback on ongoing activities and resources by the federal government agencies on environmental justice, including the Justice40 Initiative, Climate and Economic Justice Screening Tool, and forthcoming Environmental Justice Scorecard; and (2) What resources or tools would you find beneficial related to environmental justice from federal government agencies? Priority to speak during the meeting will be given to public commenters with comments relevant to the topics and questions listed above. Every effort will be made to hear from as many registered public commenters during the time specified on the agenda. Individuals or groups making remarks during the public comment period will be limited to three (3) minutes. Please be prepared to briefly describe your issue and your recommendation relevant to the current charges, topics, and questions under consideration by the WHEJAC. Submitting written comments for the record is strongly encouraged. You may submit your written comments in three different ways; (1.) by creating comments in the Docket ID No. EPA-HQ-OEJECR-2023-0099 at http://www.regulations.gov, (2.) by using the webform at https://www.epa.gov/environmentaljustice/forms/white-house-environmental-justice-advisory-council-whejac-public-comment, and (3.) by sending comments via email to whejac@epa.gov. Written comments can be submitted through June 20, 2023.

B. Information About Services for Individuals With Disabilities or Requiring English Language Translation Assistance

For information about access or services for individuals requiring assistance, contact Audrie Washington at (312) 886-0669 or via email at whejac@epa.gov. To request special accommodations for a disability or other assistance, please submit your request at least fourteen (14) working days prior to the meeting, to give EPA sufficient time to process your request. All requests should be sent to the address, email, or phone number listed in the FOR FURTHER INFORMATION CONTACT section.

Matthew Tejada,
Deputy Assistant Administrator for Environmental Justice, Office of Environmental Justice and External Civil Rights.

[FR Doc. 2023-09917 Filed 5-9-23; 8:45 am]

BILLING CODE 6560-50-P